DEPARTMENT OF HEALTH AND HUMAN SERVICES

Centers for Disease Control and Prevention

Board of Scientific Counselors, National Center for Infectious Diseases (NCID): Meeting

In accordance with section 10(a)(2) of the Federal Advisory Committee Act (Pub. L. 92-463), the Centers for Disease Control and Prevention (CDC) announces the following meeting of the aforementioned committee.

Times and Dates: 9 a.m.-5:30 p.m., March 15, 2007; 8:30 a.m.-2:30 p.m., March 16, 2007.

Place: CDC, Building 19, 1600 Clifton Road, N.E., Atlanta, Georgia 30333.

Status: Open to the public, limited only by the space available.

Purpose: The Board of Scientific Counselors, NCID, provides advice and guidance to the Director, CDC, and Director, NCID, in the following areas: program goals and objectives; strategies; program organization and resources for infectious disease prevention and control; and program priorities.

Matters To Be Discussed: Agenda items will include:

1. Breakout Group Discussions:

Vaccine Preventable Disease Surveillance

Respiratory Outbreaks

Ecology of Emerging Zoonoses and Other Infectious Diseases

Food-Borne Diseases: The New Way Forward

Working with Academic Partners

Chlamydia Screening Programs in the U.S.

Antimicrobial Resistance

Infectivity Component of Infection Control

Exotic Animal Importation and Trade

2. Coordinating Center for Infectious Diseases Updates

3. Strategies for Identifying New Pathogens

Other agenda items include announcements/introductions; follow-up on actions recommended by the Board in May 2006; consideration of future directions, goals, and recommendations.

Agenda items are subject to change as priorities dictate.

Written comments are welcome and should be received by the contact person listed below prior to the opening of the meeting.

FOR FURTHER INFORMATION CONTACT: Tony Johnson, Office of the Director, NCID, CDC, Mailstop A-45, 1600 Clifton Road, NE, Atlanta, Georgia 30333, e-mail tjohnson3@cdc.gov; telephone 404/639-3856.

The Director, Management Analysis and Services office has been delegated the authority to sign Federal Register notices pertaining to announcements of meetings and other committee management activities, for both the Centers for Disease Control and Prevention and the Agency for Toxic Substances and Disease Registry.

Elaine L. Baker,
Acting Director, Management Analysis and Services Office, Centers for Disease Control and Prevention.

[FR Doc. E7-2753 Filed 2-15-07; 8:45 am]

BILLING CODE 4163-18-P